DEPARTMENT OF TRANSPORTATION

Federal Highway Administration

Notice To Rescind a Notice of Intent and Draft Environmental Impact Statement: I-10 Corridor Improvement Study; Maricopa County, AZ

AGENCY: Federal Highway Administration (FHWA), DOT.

ACTION: Notice to rescind a Notice of Intent and Draft Environmental Impact Statement.

SUMMARY: The FHWA is issuing this notice to advise the public that we are rescinding the Notice of Intent (NOI) and Draft Environmental Impact Statement (EIS) for proposed freeway improvements along Interstate 10 (I-10) from State Route (SR) 51 to the Santan Freeway within Maricopa County, Arizona. A NOI to prepare an EIS for the I-10 Corridor Improvement Study was published in the Federal Register on February 4, 2002, with a subsequent correction to the project limits published in the Federal Register on May 14, 2002.

FOR FURTHER INFORMATION CONTACT: Mr. Alan Hansen, Major Projects Manager, Federal Highway Administration, 4000 North Central Avenue, Suite 1500, Phoenix, AZ 85012-3500, Telephone: (602) 382-8964, Email: alan.hansen@dot.gov.

The FHWA Arizona Division Office's normal business hours are 8 a.m. to 5 p.m. (Mountain Standard Time).

SUPPLEMENTARY INFORMATION: On February 4, 2002, the FHWA, in cooperation with the Arizona Department of Transportation (ADOT), issued an NOI to prepare an EIS for proposed freeway improvements along I-10 from SR 51 to the Santan Freeway in Maricopa County, Arizona. The I-10 Corridor is in or adjacent to the cities of Phoenix, Tempe, and Chandler, as well as the Town of Guadalupe.

In May 2002, the FWHA issued a revised NOI to correct the project limits. The study area limits for the EIS consisted of approximately 15 miles of I-10 and segments of I-17, SR 143, and US Highway (US) 60. The study area primarily extended south along I-10 from the I-10/SR51/SR202L System Interchange to the I-10/SR202L Santan Freeway System Interchange. The study area also included the segment of I-17 from the I-10/I-17 System Interchange west to 9th Avenue, SR 143 from Broadway Road north to the south bank of the Salt River, and US 60 from the I-10/US60 System Interchange east to Hardy Drive.

A No-Build Alternative and Build Alternative were being considered in the EIS for the Design Year 2030. The No-Build Alternative served as the baseline for the analysis conducted under the National Environmental Policy Act (NEPA). The proposed Build Alternative involved a combination of freeway widening and the construction of separate express and local lanes along I-10.

The construction of separate express and local lanes on I-10 between Buckeye and Baseline Roads is included in the Regional Transportation Plan (RTP) and Transportation Improvement Plan (TIP) adopted by the Maricopa Association of Governments (MAG) Regional Council. However, MAG is considering modifications to some of the transportation improvements that are presently programmed in the RTP and TIP, including the express and local lanes on I-10 between Buckeye and Baseline Roads. As such, the preparation of the EIS for the I-10 Corridor Improvement Study is being terminated. Any future transportation improvements in the I-10 Corridor will be determined through the funding and project reprioritization by MAG, and any future actions will progress under a separate environmental review process, in accordance with all applicable laws and regulations.

(Catalog of Federal Domestic Assistance Program Number 20.205, Highway Planning and Construction. The regulations implementing Executive Order 12372 regarding intergovernmental consultation on Federal programs and activities apply to this program.)

Issued on: December 4, 2012.
Karla S. Petty,
FHWA Division Administrator, Phoenix, AZ.

[FR Doc. 2012-29918 Filed 12-14-12; 8:45 am]

BILLING CODE P